NATIONAL ARCHIVES AND RECORDS ADMINISTRATION

[NARA-2013-034]

Nixon Presidential Historical Materials: Opening of Materials

AGENCY: National Archives and Records Administration.

ACTION: Notice of Opening of Additional Nixon Materials.

SUMMARY: This notice announces the opening of additional Nixon Presidential Historical Materials by the Richard Nixon Presidential Library and Museum, a division of the National Archives and Records Administration. Notice is hereby given that, in accordance with § 104 of Title I of the Presidential Recordings and Materials Preservation Act (PRMPA, 44 U.S.C. § 2111 note) and § 1275.42(b) of the PRMPA Regulations implementing the Act (36 CFR Part 1275), the Agency has identified, inventoried, and prepared for public access approximately 340 hours of Nixon White House tape recordings and additional textual materials with certain information redacted as required by law, including the PRMPA.

DATES: The Richard Nixon Presidential Library and Museum intends to make the materials described in this notice available to the public on August 21, 2013, at the Richard Nixon Library and Museum in Yorba Linda, CA, beginning at 9:30 a.m. PDT/12:30 p.m. EDT. In accordance with 36 CFR 1275.44, any person who believes it necessary to file a claim of legal right or privilege concerning access to these materials must notify the Archivist of the United States in writing of the claimed right, privilege, or defense within 30 days of the publication of this notice in the Federal Register.

ADDRESSES: The Richard Nixon Presidential Library and Museum is located at 18001 Yorba Linda Blvd., Yorba Linda, CA. Researchers must have a NARA researcher card, which they may obtain when they arrive at the Library. All of the tapes and selections from the additional materials will be available at www.nixonlibrary.gov. Petitions asserting a legal or constitutional right or privilege that would prevent or limit public access to the materials must be sent to the Archivist of the United States, National Archives at College Park, 8601 Adelphi Rd., College Park, Maryland 20740-6001.

FOR FURTHER INFORMATION CONTACT: Gregory Cumming, Richard Nixon Presidential Library and Museum, 714-983-9131.

SUPPLEMENTARY INFORMATION: The following materials will be made available in accordance with this notice:

1. NARA's Nixon Library is proposing to open approximately 2905 conversations which were recorded between April 9 and July 12, 1973. These conversations total approximately 340 hours of listening time (338 h 47 m of tape opened and 342 h 13 m of tape reviewed). This is the fifteenth opening of Nixon White House tapes since 1980. There are no transcripts for these tapes. Tape subject logs, prepared by the Nixon Library, are offered for public access as a finding aid to the tape segments and a guide for the listener. There is a separate tape log entry for each conversation. Each tape log entry includes the names of participants; date and inclusive times of each conversation; location of the conversation; and an outline of the content of the conversation. Listening stations will be available on a first come, first served basis at the Library in Yorba Linda. The newly released tapes will also be available on August 21, 2013 on the Web at http://www.nixonlibrary.gov at 9:30 a.m. PDT/12:30 p.m. EDT. The Nixon Library reserves the right to limit listening time in response to heavy demand.

2. Previously restricted textual materials. Volume: 31 cubic feet. A number of textual materials previously withheld from public access have been reviewed for release and/or declassified under the systematic declassification review provisions and under the mandatory review provisions of Executive Order 13526, the Freedom of Information Act (5 U.S.C. § 552), or in accordance with 36 CFR 1275.56 (Public Access regulations). The materials are from integral file segments for the National Security Council (NSC Files and NSC Institutional Files); along with the White House Special Files; White House Central Files; The President's Foreign Intelligence Advisory Board file; and RG87 and RG130.

3. White House Central Files, Staff Member and Office Files. Volume: 72.5 cubic feet. The White House Central Files Unit was a permanent organization within the White House complex that maintained a central filing and retrieval system for the records of the President and his staff. The Staff Member and Office Files consist of materials that were transferred to the Central Files but were not incorporated into the Subject Files. The following file groups will be made available: Franklin, Barbara and Price, John.

4. White House Central Files, Oversize Attachment Files. Volume: 0.25 cubic foot. The White House Central Files Unit was a permanent organization within the White House complex that maintained a central filing and retrieval system for the records of the President and his staff. The Oversize Attachment Files were a means of filing and organizing materials that were too bulky or odd-sized to be placed in a file folder. Listed is the oversize attachment from the White House Central Files, Oversize Attachment Files in the opening: OA (5720)

5. White House Central Files, Name Files: Volume: 4 cubic feet. The Name Files were used for routine materials filed alphabetically by the name of the correspondent; copies of documents in the Name Files were usually filed by subject in the Subject Files. The following Name Files folders will be made available:

Abbott, H-J

Abbott, John Hancock

Abbott, K-R

Abbott, Richard

Abbott, Robert

Abbott, Robert B.

Abbott, Roberta

Abbott, S-Z

Abbotta

ABDE

ABDI

ABDG

ABDULL

ABE

Abel, A-E

Alexander, H

Alexander, Henry

Bank, A-H

Berlin, Richard E.

Butts, U-Z

Champion, D-G

Chase, M

Chelt

Clausen, L-Z

Cook, Donald

Finch, Robert H

First National City Bank of NY

Gates, T

Hampton, Lionel

Hauge

Heads

Irving, T

Lundberg

Manufacture

McCall, H

McCloy, John J.

McCrea, Q-Z

McNeill, F-K

McNeill, L-R

Meyer, John

Morgan, Gr

Moore, George S-Z

Moore, George

Muccia

Murphy, George

Pawley

Petersen, W

Peterson, Ru

Peterson, Ra

Regan, A-E

Renb

Rockefeller, David

Shriver, Sargent

Shultz, George P.

SMARTA

Smathers George A. (Sen)

Wrin

Dated: June 28, 2013.
David S. Ferriero,
Archivist of the United States.

[FR Doc. 2013-17136 Filed 7-16-13; 8:45 am]

BILLING CODE 7515-01-P